DEPARTMENT OF AGRICULTURE

Food and Nutrition Service

Agency Information Collection Activities: Proposed Collection; Comments Request—WIC Infant and Toddler Feeding Practices Study-2 (WIC ITFPS-2)

AGENCY: Food and Nutrition Service, USDA.

ACTION: Notice.

SUMMARY: In accordance with the Paperwork Reduction Act of 1995, this notice invites the public and other public agencies to comment on this proposed information collection. This is a new collection for the Food and Nutrition Service to update and build upon previous research conducted in the 1990's, the WIC Infant Feeding Practices (WIC IFPS-1). The currently planned study will provide contemporary information on the feeding practices of this specific population of children enrolled in WIC over the first two years of their lives. It will determine the prevalence of particular feeding practices in the WIC population, and assess whether the new WIC food packages, instituted in 2009, have influenced those feeding practices, specifically as it relates to breastfeeding rates. This study will also examine the circumstances and influences that shape a mother's feeding decisions for their child and describe the impact of these decisions throughout early child development.

DATES: Written comments must be received on or before May 22, 2012.

ADDRESSES: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including the use of appropriate automated, electronic, mechanical, or other technological collection techniques or other forms of information technology.

Comments may be sent to: Steven Carlson, Office of Research and Analysis, Food and Nutrition Service, USDA, 3101 Park Center Drive, Room 1014, Alexandria, VA 22302. Comments may also be submitted via fax to the attention of Steven Carlson at 703-305-2017 or via email to Steve.Carlson@fns.usda.gov. Comments will also be accepted through the Federal eRulemaking Portal. Go to http://www.regulations.gov and follow the online instructions for submitting comments electronically.

All written comments will be open for public inspection at the Office of Research and Analysis, Food and Nutrition Service during regular business hours (8:30 a.m. to 5 p.m., Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION: Title: Women Infants and Children Infant and Toddler Feeding Practices Study-2 (WIC ITFPS-2).

OMB Number: 0584-NEW.

Expiration Date of Approval: Not yet determined.

Type of request: New collection.

Abstract: The Food and Nutrition Service's (FNS) WIC ITFPS-2 will update the current body of knowledge regarding infant and toddler feeding practices and behaviors. This important research is needed to understand the nutritional intake and feeding patterns within the WIC population to assist in the development of appropriate and effective prevention strategies to improve the health of young children. With over 50 percent of the nation's infants enrolled in WIC, it is hoped that prevention strategies implemented in WIC will have a substantial impact on the growth and health of U.S. infants and children.

The objectives of the WIC ITFPS-2 include:

• Update data collected in WIC-IFPS-1.

• Compare new findings with other major studies (WIC-IFPS-1, FDA IFPS, and the Gerber/Nestle 2002 and 2008 FITS studies).

• Assess effectiveness of different education and breastfeeding promotion approaches in achieving recommended feeding patterns and behaviors.

• Assess conditions of overfeeding and overconsumption.

• Identify nutrition education influences.

• Assess impact of WIC food packages on outcomes.

• Determine changes in maternal feeding practices and behaviors over time as infants and toddlers transition into or out of WIC.

The data collection activities to be undertaken subject to this notice include:

• An in-person eligibility screener and recruitment interview will be administered to WIC others/caretakers at the point of enrollment, either when they enroll in WIC prenatally or after the child is born. Sampled participants will be assigned to either the core sample or the supplemental sample. Up to 11 distinct telephone interviews will be administered to the core sample when the child is 1, 3, 5, 7, 9, 11, 13, 15, 18, and 24 months old; and 4 telephone interviews will be administered to the supplemental sample. The telephone interviews will include a 24-hour dietary recall.

• An in-depth telephone interview will be conducted with key staff in the state and local WIC administration offices of the sampled WIC service sites.

• A web survey will be conducted with multiple WIC clinic staff at all recruited WIC service sites.

Affected Public

• Individual/Household (7,841 WIC Breastfeeding Mothers): Respondent groups identified include women enrolling in the WIC program or the primary caregiver of the WIC enrolled infant. A total of 728 of those eligible (14%) will not participate in part or in whole.

• State, Local and Tribal Agencies (105 key Informants and 800 WIC Staff): WIC program administrators at the local and state level (key informants) and staff persons who are providing WIC services through direct client interaction. All key informants will participate. FNS estimates 80% or 600 WIC program administrators will participate; 200 will not participate.

Estimated Number of Respondents: As presented in Table 1, the total number of respondents is 8,746. A total of 7,841 are WIC participants, 105 are state and local key informants, and 800 are local WIC staff. Of the 5,163 WIC women who complete the eligibility screener, we will recruit 4,435 ¹ women into the study (86%). Of those, 2,141 women in the core sample and 928 in the supplemental sample will complete the study. All WIC participants will receive the screener and recruitment interviews. Most WIC participants in the core sample will be interviewed when their child is 1, 3, 5, 7, 9, 11, 13, 15, 18, and 24 months old; participants who are recruited prenatally will also receive a prenatal interview. About 18 percent of participants in the core sample will not be enrolled in the study until their child is 2 months old and therefore will be interviewed beginning at 3 months. WIC participants in the supplemental sample will be interviewed when their child is either 1 or 3 months old (depending on the age of the child when recruited) and at 7, 13, and 24 months. All 105 key informants will complete the in-depth interview, and 600 WIC staff (80%) will complete a web survey.

¹ 4,435 = 3,416 prenatal women + 1,019 post-natal women; however, of the 4,435 prenatal women, we expect only 2,972 will have live births. Therefore, 2,972 live births + 1,019 post-natal = 3,991. This equals the number of Completed + Attempted interviews for the Core and Supplemental follow-up interviews in Table 1.

Estimated Total Annual Responses: The total annualized estimated number of responses is 17,225: 16,922 responses by WIC participants, 35 responses by WIC key informants, and 267 by WIC staff. The 16,992 WIC participant responses include a 10 percent subsample of core respondents who will complete a second 24-hour dietary recall for all postnatal interviews. Annualized burden should be multiplied by 3 to get the burden over the life of the 3-year data collection period (note: the maximum burden hours fall in the first year of infant life).

Estimated Time per Response: WIC mothers/caregivers will take approximately 5 minutes (.08333 hours) to complete the eligibility screener; 20 minutes (.3333 hours) to complete the recruitment interview; and an average of 30 minutes (.5000 hours) to complete all follow up telephone interviews (prenatal, 1, 3, 5, 7, 9, 11, 13, 15, 18, 24-month). The key informant interviews will take an average of 60 minutes and the WIC clinic staff web survey will take approximately 30 minutes (.5000 hours) to complete.

Estimated Total Annual Burden on Respondents: FNS estimates the annualized burden is 5,804 hours.

Table 1—Estimated Annualized Burden Hours
Respondents by type of interview | Estimated annualized burden hours: Number of respondents | Estimated annualized burden hours: Number of responses per respondent | Estimated annualized burden hours: Estimated total annual responses | Estimated annualized burden hours: Average burden hours per response | Estimated annualized burden hours: Total annual hour burden
WIC Participant Interviews
Eligibility Screener
Completed | 5,163 | 0.334 | 1,724.11 | 0.0835 | 143.99
Attempted | 2,678 | 0.334 | 894.452 | 0.0334 | 29.87
Recruitment Interview
Completed | 4,435 | 0.334 | 1,481.29 | 0.334 | 494.75
Attempted | 728 | 0.334 | 243.15 | 0.0334 | 8.12
Core Follow-up interviews
Completed | 2141 | 4 | 8,564.00 | 0.5 | 4,281.01
Attempted | 663 | 3.67 | 2,433.21 | 0.0334 | 81.27
Supplemental Follow-up interviews
Completed | 928 | 1.334 | 1,237.95 | 0.5 | 618.98
Attempted | 258 | 1.334 | 344.17 | 0.0334 | 11.50
WIC participant Total | 7,841 |  | 16,922.67 |  | 5,669.49
WIC Key Informants
Key Informant interview
Completed | 105 | 0.33 | 34.65 | 1.0 | 34.65
Attempted | 0 | 0.33 | 0 | 0.0334 | 0
Key informant Total | 105 |  | 34.65 |  | 34.65
WIC Staff
Web survey
Completed | 600 | 0.334 | 200.4 | 0.5 | 100.2
Attempted | 200 | 0.334 | 66.8 | 0 | 0
Staff Survey Total | 800 |  | 267.2 |  | 100.2
Annualized Total | 8,746 |  | 17,225 |  | 5,804.34
¹ 4,435 = 3,416 prenatal women + 1,019 post-natal women; however, of the 4,435 prenatal women, we expect only 2,972 will have live births. Therefore, 2,972 live births + 1,019 post-natal = 3,991. This equals the number of Completed + Attempted interviews for the Core and Supplemental follow-up interviews in Table 1.
² Total Annual hour burden will need to be multiple by 3 for the 3 year data collection period (note: the maximum burden hours fall in the first year of infant life).

Dated: March 19, 2012.
Jeffrey J. Tribiano,
Acting Administrator, Food and Nutrition Service.

[FR Doc. 2012-7033 Filed 3-22-12; 8:45 am]

BILLING CODE 3410-30-P